NUCLEAR REGULATORY COMMISSION

[Docket No. 72-26; NRC-2011-0110]

Diablo Canyon Independent Spent Fuel Storage Installation; Notice of Docketing for Amendment Request No. 2 to Special Nuclear Materials License No. 2511

AGENCY: Nuclear Regulatory Commission.

ACTION: Notice of Docketing of Amendment Request for Materials License SNM-2511.

DATES: A request for hearing and/or petition for leave to intervene must be filed by July 19, 2011.

FOR FURTHER INFORMATION CONTACT: John M. Goshen, Project Manager, Licensing Branch, Division of Spent Fuel Storage and Transportation, Office of Nuclear Material Safety and Safeguards, U.S. Nuclear Regulatory Commission, Washington, DC 20555-0001, telephone: 301-492-3325; fax number: 301-492-3348; e-mail: john.goshen@nrc.gov.

SUPPLEMENTARY INFORMATION:

I. Introduction

The U.S. Nuclear Regulatory Commission (NRC or Commission) is considering an application dated January 31, 2011, from Pacific Gas and Electric Company (PG&E) to amend its Special Nuclear Material License No. SNM-2511, under the provisions of 10 CFR part 72, for the receipt, possession, storage and transfer of spent fuel, reactor-related Greater than Class C waste and other radioactive materials associated with spent fuel storage at the Diablo Canyon Independent Spent Fuel Storage Installation (ISFSI), located at the Diablo Canyon Nuclear Power Plant, Unit Nos. 1 and 2 site in San Luis Obispo County, California. If granted, the amendment will revise Materials License SNM-2511 as follows:

1. Changes to Technical Specifications (TS):

a. TS 1.1, “Definitions,” is revised to include terms in support of high burnup fuel (HBF) selection criteria and the addition of neutron source assemblies (NSAs), and instrument tube tie rods (ITTRs).

b. TS 2.0, “Approved Contents,” is revised in Tables 2.1-1 through 2.1-10 in support of HBF selection criteria and the addition of NSAs, and ITTRs.

c. TS 2.0, “Approved Contents,” is revised to add new TS 2.3 and associated Table 2.3-1 to provide alternative calculations for burnup limits for fuel assemblies in a Multi-Purpose Canister (MPC)-32 to allow selection of HBF.

d. TS 3.1.1, “Multi-Purpose Canister (MPC),” is revised to eliminate the vacuum drying option, which is not allowed for HBF, and to add a reference temperature of 70 °F for the MPC Helium backfill pressure range.

e. TS 3.1.2, “Spent Fuel Storage Cask (SFSC) Heat Removal System,” is modified to allow the HI-STORM to be considered operable with up to 50 percent vent blockage (although removal of any blockage is still required on discovery).

f. TS 3.1.4, “Supplemental Cooling System,” is added to provide the conditions and criteria for the supplemental cooling system (SCS). This change requires an exemption from the requirements of 10 CFR 72.236(f). TS 4.1.2b, “Design Features Important to Criticality Control,” is revised to change the B4C content in METAMIC to 33.0 wt%.

g. TS 5.1.3b, “MPC and SFSC Loading, Unloading, and Preparation Program,” is revised to delete the requirement for maintaining the annulus full during vacuum drying and to restore the requirement for maintaining the annulus full during reflood (unloading).

2. Revision of the licensing basis as documented in the DC ISFSI Final Safety Analysis Report Update (FSARU) to:

a. Upgrade the thermal analysis methodology to a three dimensional (3D) Computational Fluid Dynamics (CFD) model,

b. Remove the requirement for 100% fuel failure coincident with 100% vent blockage,

c. Change of some allowed component temperatures in the thermal evaluation (peak cladding, concrete, overpack metal, transfer cask lid neutron shielding),

d. Reduce the required torque criteria for the MPC lift cleats, and

e. Addition of design criteria for the SCS including a new accident for loss of SCS.

3. An exemption from the requirements of 10 CFR 72.236(f) to allow use of a nonpassive SCS.

An NRC acceptance review, documented in a letter to PG&E dated April 14, 2011, found that the application contains sufficient information for the NRC staff to begin its technical review. This application was docketed under 10 CFR 72.16; the ISFSI Docket No. is 72-26 and will remain the same for this action. All other procedural requirements in Part 72 will be met as the NRC continues to process this license amendment request (see section II of this notice, “Opportunity to Request a Hearing”).

The Commission will approve the license amendment if it determines that the application meets the standards and requirements of the Atomic Energy Act of 1954, as amended (the Act) and the Commission's regulations, and pursuant to 10 CFR 72.58, the findings required by 10 CFR 72.40. These findings will be documented in a Safety Evaluation Report.

II. Opportunity To Request a Hearing

The Commission may issue either a notice of hearing or a notice of proposed action and opportunity for hearing in accordance with 10 CFR 72.46(b)(1) or, if a determination is made that the amendment does not present a genuine issue as to whether public health and safety will be significantly affected by the Director, Office of Nuclear Material Safety and Safeguards, or his designee, take immediate action on the amendment in accordance with 10 CFR 72.46(b)(2) and provide notice of the action taken and an opportunity for interested persons to request a hearing on whether the action should be rescinded or modified.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from May 20, 2011. Non-timely filings will not be entertained absent a determination by the presiding officer that the petition or request should be granted or the contentions should be admitted, based on a balancing of the factors specified in 10 CFR 2.309(c)(1)(i)-(viii).

III. Further Information

Documents related to this action, including the application for renewal and supporting documentation, are available online in the NRC Library at http://www.nrc.gov/reading-rm/adams.html. From this page, the public can gain entry into the NRC's Agencywide Document Access and Management System (ADAMS), which provides text and image files of NRC's public documents. The ADAMS accession numbers for the documents related to this notice are: License Renewal Application dated January 31, 2011 (ML110400387), and the acceptance review letter dated April 14, 2011 (ML111050015). If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O 1 F21, One White Flint North, 11555 Rockville Pike, Rockville, MD 20852. The PDR reproduction contractor will copy documents for a fee.

Dated at Rockville, Maryland, this 11th day of May, 2011.
For the Nuclear Regulatory Commission.
Kimberly J. Hardin,
Acting Branch Chief, Licensing Branch, Division of Spent Fuel Storage and Transportation, Office of Nuclear Material Safety and Safeguards.

[FR Doc. 2011-12460 Filed 5-19-11; 8:45 am]

BILLING CODE 7590-01-P